DEPARTMENT OF COMMERCE

National Institute of Standards and Technology

[Docket Number: 230818-0199]

Request for Information on Implementation of the United States Government National Standards Strategy for Critical and Emerging Technology (USG NSSCET); Extension of Comment Period

AGENCY: National Institute of Standards and Technology (NIST), Commerce.

ACTION: Notice; extension of comment period.

SUMMARY: The National Institute of Standards and Technology (NIST) is extending the period for submitting comments to support the development of an implementation plan for the United States Government National Standards Strategy for Critical and Emerging Technology (USG NSSCET) until December 22, 2023. In a Request for Information (RFI) that published in the Federal Register on September 7, 2023, NIST requested information on behalf of the U.S. Department of Commerce and the U.S. Government to support the development of an implementation plan for the United States Government National Standards Strategy for Critical and Emerging Technology (USG NSSCET). The USG NSSCET is intended to support and complement existing private sector-led activities and plans, including the American National Standards Institute (ANSI) United States Standards Strategy (USSS), with a focus on critical and emerging technology(ies) (CET). The USG NSSCET reinforces the U.S. Government's support of a private sector-led, open, consensus-based international standards system, corresponding to the World Trade Organization (WTO) Technical Barriers to Trade (TBT) Committee decision that articulates and elaborates on principles that are fundamental to the development of an international standards: transparency; openness; impartiality and consensus; effectiveness and relevance; and coherence. To inform the USG NSSCET implementation, including how to best partner with relevant stakeholders, NIST is requesting information that will support the identification and prioritization of key activities that will optimize the USG NSSCET implementation and further enhance the U.S. Government's ability to support a private sector-led, open, consensus-based international standards system, to which the U.S. Government is an active stakeholder and participant.

DATES: Comments must be received by 11:59 p.m. Eastern time on December 22, 2023. Comments received after November 6, 2023 and before publication of this notice are deemed to be timely. Submissions received after December 22, 2023 may not be considered. Those who have already submitted comments need not resubmit.

ADDRESSES: Comments may be submitted by either of the following methods:

• Electronic submission: Submit electronic public comments via the Federal eRulemaking Portal.

1. Go to www.regulations.gov and enter NIST-2023-0005 in the search field,

2. Click the “Comment Now!” icon, complete the required fields, and

3. Enter or attach your comments.

Comments containing references, studies, research, and other empirical data that are not widely published should include copies of the referenced materials. All submissions, including attachments and other supporting materials, will become part of the public record and subject to public disclosure.

All comments responding to this document will be a matter of public record. Relevant comments will generally be available on the Federal eRulemaking Portal at www.regulations.gov. After the comment period closes, relevant comments will generally be available on www.standards.gov. NIST will not accept comments accompanied by a request that part or all of the material be treated confidentially because of its business proprietary nature or for any other reason. Therefore, do not submit confidential business information or otherwise sensitive, protected, or personal information, such as account numbers, Social Security numbers, or names of other individuals.

For Public Meetings/Webcast: NIST may hold a series of “Listening Sessions” or “Stakeholder Events” in support of the USG NSSCET implementation. Information on these and any other NIST-sponsored events in connection with the USG NSSCET implementation will be announced at www.standards.gov.

FOR FURTHER INFORMATION CONTACT: For questions about this notice please contact: Standards Coordination Office (SCO), NIST via email at sco@nist.gov or by phone at (301) 975-5633. Please direct all media inquiries to Public Affairs Office (PAO), NIST via email at inquires@nist.gov or by phone at (301) 975-2762.

SUPPLEMENTARY INFORMATION: In an RFI that published in the Federal Register on September 7, 2023 (88 FR 61527), NIST requested information on behalf of the U.S. Department of Commerce and the U.S. Government to support the development of an implementation plan for the United States Government National Standards Strategy for Critical and Emerging Technology (USG NSSCET). The USG NSSCET is intended to support and complement existing private sector-led activities and plans, including the American National Standards Institute (ANSI) United States Standards Strategy (USSS), with a focus on critical and emerging technology(ies) (CET). The U.S. standards development system is unique because it is built upon a wide variety of processes that are open, voluntary, decentralized, and led by the private sector. These processes feature openness to participation by materially interested stakeholders with consensus-based decision making. Finalized standards are primarily published by private sector standards organizations, not the U.S. Government. The U.S. Government supports standards development activities in accordance with the World Trade Organization (WTO) Technical Barriers to Trade Committee decision that articulates principles including transparency, openness, impartiality and consensus, effectiveness, relevance, and coherence. The USG NSSCET reinforces the U.S. Government's support of a private sector-led, open, consensus-based international standards system, to which the U.S. Government is an active stakeholder and participant. To inform the USG NSSCET implementation, including how to best partner with relevant stakeholders, NIST is requesting information that will support the identification and prioritization of key activities that will optimize the USG NSSCET implementation and further enhance the U.S. Government's ability to support a private sector-led, open, consensus-based international standards system. In addition to other agencies and Departments, bureaus across the U.S. Department of Commerce are involved in the USG NSSCET. They include the International Trade Administration (ITA), the Bureau of Industry and Security (BIS), the U.S. Patent and Trademark Office (USPTO), and the National Telecommunications and Information Administration (NTIA).

CET covered under the USG NSSCET include, but are not limited to:

• Communication and Networking Technologies

• Communication and Networking Technologies

• Semiconductors and Microelectronics, including Computing, Memory, and Storage Technologies

• Artificial Intelligence and Machine Learning

• Biotechnologies

• Positioning, Navigation, and Timing Services

• Digital Identity Infrastructure and Distributed Ledger Technologies

• Clean Energy Generation and Storage

• Quantum Information Technologies

There are also specific applications of CET that departments and agencies have determined will impact our global economy and national security. These include, but are not limited to:

• Automated and Connected Infrastructure

• Biobanking

• Automated, Connected, and Electrified Transportation

• Critical Minerals Supply Chains

• Cybersecurity and Privacy

• Carbon Capture, Removal, Utilization, and Storage

A full list of CETs identified by the National Science and Technology Council (NSTC) can be found https://www.whitehouse.gov/wp-content/uploads/2022/02/02-2022-Critical-and-Emerging-Technologies-List-Update.pdf.

The national interest in CET and associated areas of standardization demands a new and urgent level of coordination and effort. National policy priorities, as expressed in legislation and other statements of policy, will require new ways for public sector and private sector (i.e., industry, including start-ups and small- and medium-sized enterprises (SMEs), academic community, and civil society organizations) stakeholders to cooperate in order to advance U.S. economic competitiveness and national security.

NIST is extending the comment period announced in the September 7, 2023 RFI from November 6, 2023 to December 15, 2023 in response to stakeholder requests for more time to respond to this important issue.

For Public Meetings/Webcast: NIST may hold a series of “Listening Sessions” or “Stakeholder Events” in support of the USG NSSCET implementation. Information on these and any other NIST-sponsored events in connection with the USG NSSCET implementation will be announced at www.standards.gov.

Alicia Chambers,
NIST Executive Secretariat.

[FR Doc. 2023-24444 Filed 11-3-23; 8:45 am]

BILLING CODE 3510-13-P